DEPARTMENT OF DEFENSE

GENERAL SERVICES ADMINISTRATION

NATIONAL AERONAUTICS AND SPACE ADMINISTRATION

48 CFR Chapter 1

[Docket No. FAR-2024-0051, Sequence No. 3]

Federal Acquisition Regulation; Federal Acquisition Circular 2024-05; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2024-05. A companion document, the Small Entity Compliance Guide (SECG), follows this FAC.

DATES: For effective dates see the separate documents, which follow.

FOR FURTHER INFORMATION CONTACT: The analyst whose name appears in the table below in relation to the FAR case. For information pertaining to status or publication schedules, contact the Regulatory Secretariat Division at 202-501-4755 or GSARegSec@gsa.gov.

Rules Listed in FAC 2024-05
Item | Subject | FAR case | Analyst
I | Sustainable Procurement | 2022-006 | Hawes.
II | Technical Amendments

ADDRESSES: The FAC, including the SECG, is available at https://www.regulations.gov.

SUPPLEMENTARY INFORMATION: Summaries for each FAR rule follow. For the actual revisions and/or amendments made by these FAR rules, refer to the specific item numbers and subjects set forth in the documents following these item summaries. FAC 2024-05 amends the FAR as follows:

Item I—Sustainable Procurement (FAR Case 2022-006)

This final rule amends the Federal Acquisition Regulation (FAR) to restructure and update FAR part 23 to focus on current environmental and sustainability matters and to implement a requirement for agencies to procure sustainable products and services to the maximum extent practicable. As a result of this rule, content related to sustainable products and services, energy savings performance contracts, hazardous and radioactive materials, pollution prevention at Federal facilities, and greenhouse gases are consolidated into single subparts at FAR subpart 23.1, 23.2, 23.3, 23.4, and 23.5, respectively. Non-environmental matters, to include requirements for a drug-free workplace and encouraging contractors to ban texting while driving, are moved to FAR part 26. The existing statutory and other Environmental Protection Agency (EPA) purchasing program requirements (previously implemented in FAR subparts 23.2, 23.4, 23.7, and 23.8) are consolidated in FAR subpart 23.1. This rule will require agencies to specify in the statement of work, or elsewhere in the contract, the sustainable products and services, including the purchasing programs and types of products or services, that are applicable to the acquisition. A new omnibus contract clause at FAR 52.223-23, Sustainable Products and Services, will require contractors to ensure the sustainable products and services identified in the contract are delivered, incorporated, or furnished under the contract. The rule also updates agency requirements for construction and architect-engineer contracts at FAR 36.104(b)(1) to align with the Council on Environmental Quality's Guiding Principles for Federal Leadership in High-Performance and Sustainable Buildings. The final rule may have a significant economic impact on a substantial number of small entities who compete on Federal contracts. These entities will need to ensure that they are offering and delivering sustainable products and services, as specified in agency solicitations and contracts.

Item II—Technical Amendments

An administrative change is made at FAR 1.106, 1.401, 4.1702, 5.704, 8.402, 8.404, 8.405-1, 8.405-2, 8.405-3, 8.405-6, 16.505, 19.305, 19.507, 28.203-1, 31.205-40, 39.000, and 52.212-3.

William F. Clark,

Director, Office of Government-wide Acquisition Policy, Office of Acquisition Policy, Office of Government-wide Policy.

Federal Acquisition Circular (FAC) 2024-05 is issued under the authority of the Secretary of Defense, the Administrator of General Services, and the Administrator of National Aeronautics and Space Administration.

Unless otherwise specified, all Federal Acquisition Regulation (FAR) and other directive material contained in FAC 2024-05 is effective April 22, 2024 except for Items I and II, which are effective May 22, 2024.

John M. Tenaglia,
Principal Director, Defense Pricing and Contracting, Department of Defense.
Jeffrey A. Koses,
Senior Procurement Executive/Deputy CAO, Office of Acquisition Policy, U.S. General Services Administration.
Karla Smith Jackson,
Assistant Administrator for Procurement, Senior Procurement Executive/Deputy CAO, National Aeronautics and Space Administration.

[FR Doc. 2024-07930 Filed 4-19-24; 8:45 am]

BILLING CODE 6820-EP-P